FEDERAL MARITIME COMMISSION

[Docket No. 11-06]

Indigo Logistics, LLC, Liliya Ivanenko, and Leonid Ivanenko—Possible Violations of Section 19 of the Shipping Act of 1984 and the Commission's Regulations; Order of Investigation and Hearing

AGENCY: Federal Maritime Commission.

ACTION: Notice of Order of Investigation and Hearing.

Authority: 46 U.S.C. 41302.

DATES: The Order of Investigation and Hearing was served April 7, 2011.

SUPPLEMENTARY INFORMATION: On April 7, 2011 the Federal Maritime Commission instituted an Order of Investigation and Hearing entitled Indigo Logistics, LLC; Liliya Ivanenko; and Leonid Ivanenko—Possible Violations of Section 19 of the Shipping Act of 1984 and the Commission's Regulations at 46 CFR part 515. Acting pursuant to Section 11 of the Shipping Act, 46 U.S.C. 41302, that investigation is instituted to determine:

(1) Whether Indigo Logistics, LLC, Liliya Ivanenko, and Leonid Ivanenko violated Section 19 of the Shipping Act, 46 U.S.C. 40901, 40902, and the Commission's regulations at 46 CFR part 515, by acting as an ocean freight forwarder without a license or evidence of financial responsibility;

(2) Whether, in the event violations of Section 19 of the Shipping Act of 1984 are found, civil penalties should be assessed against Indigo Logistics, LLC, Liliya Ivanenko, and/or Leonid Ivanenko, and, if so, the amount of penalties to be assessed; and

(3) Whether, in the event violations are found, appropriate cease and desist orders should be issued.

The Order may be viewed in its entirety at http://www.fmc.gov.

Karen V. Gregory,
Secretary.

[FR Doc. 2011-9282 Filed 4-15-11; 8:45 am]

BILLING CODE 6730-01-P